DEPARTMENT OF HOMELAND SECURITY

Citizenship and Immigration Services

[CIS No. 2321-04; Docket No. DHS-2004-0024]

RIN 1615-ZA06

Expansion of the Basic Pilot Program to All 50 States and the District of Columbia; Providing Web-Based Access

AGENCY: U.S. Citizenship and Immigration Services, Department of Homeland Security.

ACTION: Notice.

SUMMARY: U.S. Citizenship and Immigration Services (USCIS) currently operates a pilot program (the Basic Pilot Program) which allows employers to get automated confirmation of a newly hired employee's work authorization after an Employment Eligibility Verification form (Form I-9) has been completed. This pilot program is offered to employers in six states. USCIS has been directed by Congress to expand it to all 50 states and the District of Columbia by December 1, 2004. This notice announces the expansion of the Basic Pilot Program to all 50 states. This notice also announces that the USCIS is offering Web-Based Access for the Basic Pilot Program to all employers volunteering to participate in the Basic Pilot Program.

DATES: The expansion of the Basic Pilot Program to all 50 States and the District of Columbia is effective December 1, 2004. The Web-Based Access method became available to current and new users beginning July 6, 2004.

FOR FURTHER INFORMATION CONTACT: Phyllis A. Lancaster, Assistant Director, SAVE Program, U.S. Citizenship and Immigration Services, Department of Homeland Security, 20 Massachusetts Avenue, NW, ULLICO Building, 4th Floor, Washington, DC 20529, Telephone (202) 514-2317.

SUPPLEMENTARY INFORMATION:

What Are the Automated Employment Eligibility Confirmation Pilot Programs?

Section 401 of the Illegal Immigration Reform and Immigrant Responsibility Act of 1996 (IIRIRA), Public Law 104-208 (Sept. 30, 1996), established three pilot programs for employment eligibility confirmation: the Basic Pilot Program; the Citizen Attestation Pilot Program; and the Machine-Readable Document Pilot Program. Section 401(b) of IIRIRA provided that the pilot programs were to be conducted for 4 years. Pursuant to IIRIRA, the Basic Pilot Program was to be made available to all employers in, at a minimum, five of the seven states with the highest estimated population of aliens unlawfully present in the United States. On September 15, 1997, the former Immigration and Naturalization Service (Service) published a notice in the Federal Register, at 62 FR 48309, announcing these states to be the States of California, Florida, Illinois, New York, and Texas (in March 1999, the former Service published a notice in the Federal Register, at 64 FR 13606, adding Nebraska to the list). The notice also described the procedures for all of the pilot programs and how employers could elect to participate in them.

In 2001, section 2 of the Basic Pilot Extension Act of 2001, Public Law 107-129 (Jan. 16, 2002), extended the pilot programs until November 30, 2003. More recently, section 2 of the Basic Pilot Program Extension and Expansion Act of 2003, Public Law 108-156 (December 3, 2003), extended the pilot programs for another five years. Under this amendment, the pilot programs are set to terminate on November 30, 2008.

The Service and Systematic Alien Verification for Entitlements (SAVE) Program, administered the pilots in conjunction with the Social Security Administration (SSA). On March 1, 2003, the Service transferred from the Department of Justice to DHS pursuant to the Homeland Security Act of 2002, Pub. L. 107-296, 116 Stat. 2142 (Nov. 26, 2002). USCIS administers the Basic Pilot Program for DHS. Of the three pilot programs, only the Basic Pilot Program remains operational.

All employers must ensure proper completion of the Employment Eligibility Verification form (Form I-9) for each newly hired employee, including U.S. citizens and aliens. Employers who sign up to participate in the Basic Pilot Program complete the Form I-9 verification process as usual, but then enter and submit Form I-9 information through a web-based computer program to the SSA database. If SSA does not have sufficient information to confirm work authorization status, queries are instantaneously sent to USCIS for confirmation.

In most cases, confirmation or nonconfirmation of work authorization is provided within seconds. If more information is required to complete the confirmation process, the employer is asked to have the employee contact SSA or USCIS to provide the needed information. This is the only way an employer can get confirmation from DHS regarding their employees' work authorization. Employers who do not use the Basic Pilot Program continue to use the Form I-9 process alone. The purpose of the Basic Pilot Program is to test this method of providing an effective, nondiscriminatory work eligibility verification procedure focusing on electronic verification.

With a couple of exceptions, an employer's participation in the Basic Pilot Program is voluntary and free to participating employers. The first exception applies to certain federal government entities. Each Department of the federal government must elect to participate in a pilot program (one of the three), but may limit it to the states covered by the program and to certain divisions within the department. Each member of Congress, each officer of Congress, and the head of each agency of the legislative branch that conducts hiring in a state in which a pilot program is operating must elect to participate in a pilot program of his or her choosing. The second exception applies to certain employers who have been found to have knowingly employed unauthorized aliens or engaged in unfair immigration-related employment practices. Such employers may be required to participate in a pilot program with respect to the employer's hiring (or recruitment or referral) of individuals in a state covered by the program pursuant to an order issued under section 274A(e)(4) or section 274B(g) of the Immigration and Nationality Act (INA).

How Is the Basic Pilot Program Being Expanded?

In addition to extending the pilot programs, section 3 of Public Law 108-156 directs the Secretary of Homeland Security to expand the Basic Pilot Program to all 50 States and the District of Columbia no later than December 1, 2004. Before implementing this expansion, Public Law 108-156 requires that USCIS prepare a report to Congress addressing the extent to which problems identified in the pilot evaluation reports were resolved and actions that would be taken to resolve any outstanding problems. The report was submitted to Congress on July 22, 2004, and is available to the public in USCIS” Web site at http://uscis.gov/graphics/aboutus/repsstudies/piloteval/BasicFINAL0704.pdf.

Pursuant to Public Law 108-156, USCIS announces through this Notice that it will expand the Basic Pilot Program to employers in all 50 States and the District of Columbia beginning December 1, 2004.

What Access Method Is Available to Participating Employers?

This Notice also announces that the Basic Pilot Program Web-Based Access is now available to all new users. USCIS launched this new access method on July 6, 2004. Prior to this, participation in the Basic Pilot Program required employers to access the Alien Status Verification Index (ASVI) database, by using a dial-up access method to obtain employment authorization.

During March 2004, the Verification Information System (VIS) replaced the ASVI database, allowing USCIS to provide employers with a new Web-Based Access Method. Unlike the Basic Pilot Program dial-up method, which required installation of software and a modem, the new Internet version of the program allows users to access the Basic Pilot Program from any personal computer that has Internet access. Other features of the Internet version of the Basic Pilot Program include on-line registration, reporting capability for users, and availability of the system seven days a week, 19-hours a day (the system is shut down from 12 a.m. to 5 a.m. for maintenance and updating of data). In addition, employers will have quick and easy access to on-line resources such as the Basic Pilot Program User Manual, the Basic Pilot Program Tutorial, Handbook for Employers (M-274), Identity Document Guide (M-396), and links to various sources containing information relating to employment issues.

Current dial-up Basic Pilot users switching to the Web-Based Access Method will be required to re-register on-line at https://www.vis-dhs.com/employerregistration, because of new features associated with the Web version, e.g., each employer site must now have a program administrator and employer sites can generate user reports. Prior to gaining access to the Web Basic Pilot Program, employers are required to complete the Web tutorial to become familiar with the new processes, and to review policies and procedures of the Basic Pilot Program.

At this time, USCIS will continue to support employers accessing the Basic Pilot dial-up method; however, new Basic Pilot participants will be directed to use only the Web-Based Access Method.

How Can Employers Elect To Participate in the Basic Pilot Program?

In order to participate, employers must enter into a Memorandum of Understanding (MOU) with USCIS and SSA. To register for the Basic Pilot Program, employers can log on to https://www.vis-dhs.com/employerregistration, which provides instructions for completing the MOU and registering for the program. Employers who are currently using the Basic Pilot Program dial-up method must re-register on-line to take advantage of the Web-Based Access method.

How Are the Privacy of Records Safeguarded?

USCIS' VIS certification and accreditation adheres to the security requirements of the Bureau of Immigration and Customs Enforcement (ICE), USCIS and DHS. VIS ensures that appropriate safeguards are implemented to minimize the risk to data and systems from data integrity threats. This is critical to national security and to other government entities that rely on the information contained in DHS databases. Data integrity refers to the validity of the information from the beginning to the end of a transaction, including the consistency, accuracy, and correctness of data stored in the databases.

VIS employs mechanisms to protect system data and implements data integrity and validation controls. Data integrity controls are in place to protect data from accidental or malicious alteration or destruction, and provide assurance to the user that the information meets the expectation about its quality and that it has not been altered. Validation controls are in place to test and evaluate compliance with security specifications and requirements.

How Can Employers Contact USCIS To Obtain Additional Information?

Employers may request additional information about the Basic Pilot Program by writing to the U.S. Citizenship and Immigration Services, 20 Massachusetts Avenue, NW., ULLICO Building, 4th Floor, Washington, DC 20529, Attention: SAVE Program. Employers may also fax a request for information to the SAVE Program at (202) 514-9981, or call the SAVE Program toll free at 888-464-4218.

Paperwork Reduction Act

The information collection requirement contained in the MOU (including registration) has been previously approved for use by the Office of Management and Budget (OMB). The OMB control number for this collection is 1653-0033 (previously 1115-0228). Since USCIS is expanding the Basic Pilot Program to all 50 States and the District of Columbia, the number of respondents will increase. Accordingly, USCIS has submitted the required Paperwork Reduction Change Worksheet (OMB-83C) to OMB reflecting the new burden hours, and the OMB has approved the changes. USCIS will also be amending the MOU to reflect the new organization structure from the former Immigration and Naturalization Service to USCIS.

Dated: December 14, 2004.
William R. Yates,
Associate Director of Operations, U.S. Citizenship and Immigration Services.

[FR Doc. 04-27702 Filed 12-16-04; 9:27 am]

BILLING CODE 4410-10-P